DEPARTMENT OF ENERGY

Federal Energy Regulatory Commission

Combined Notice of Filings #1

Take notice that the Commission received the following Complaints and Compliance filings in EL Dockets:

Docket Numbers: EL24-127-000.

Applicants: Great Basin Transmission, LLC.

Description: Great Basin Transmission, LLC submits Petition for Declaratory Order.

Filed Date: 7/11/24.

Accession Number: 20240711-5177.

Comment Date: 5 p.m. ET 8/12/24.

Docket Numbers: EL24-128-000.

Applicants: Enerwise Global Technologies, LLC v. PJM Interconnection, L.L.C.

Description: Complaint of Enerwise Global Technologies, LLC v. PJM Interconnection, L.L.C.

Filed Date: 7/16/24.

Accession Number: 20240716-5085.

Comment Date: 5 p.m. ET 8/5/24.

Take notice that the Commission received the following electric rate filings:

Docket Numbers: ER18-1708-002.

Applicants: Copenhagen Wind Farm, LLC.

Description: Notice of Change in Status of Copenhagen Wind Farm, LLC.

Filed Date: 7/16/24.

Accession Number: 20240716-5130.

Comment Date: 5 p.m. ET 8/6/24.

Docket Numbers: ER22-282-000; ER23-2216-000.

Applicants: El Paso Electric Company, El Paso Electric Company.

Description: Conditional Formal Challenge of Tucson Electric Power Company, et al.

Filed Date: 7/12/24.

Accession Number: 20240712-5215.

Comment Date: 5 p.m. ET 8/2/24.

Docket Numbers: ER24-2531-000.

Applicants: PJM Interconnection, L.L.C.

Description: Tariff Amendment: Notice of Cancellation of WMPA, SA No. 5836; AE2-227 re: failure to cure breach to be effective 9/16/2024.

Filed Date: 7/16/24.

Accession Number: 20240716-5132.

Comment Date: 5 p.m. ET 8/6/24.

Docket Numbers: ER24-2532-000.

Applicants: PJM Interconnection, L.L.C.

Description: Tariff Amendment: Notice of Cancellation of WMPA, SA No. 5837; AE2-228 re: failure to cure breach to be effective 9/16/2024.

Filed Date: 7/16/24.

Accession Number: 20240716-5135.

Comment Date: 5 p.m. ET 8/6/24.

Docket Numbers: ER24-2533-000.

Applicants: American Electric Power Service Corporation, PJM Interconnection, L.L.C.

Description: 205(d) Rate Filing: American Electric Power Service Corporation submits tariff filing per 35.13(a)(2)(iii: AEP submits one Facilities Agreement re: ILDSA, SA No. 4234 to be effective 9/17/2024.

Filed Date: 7/17/24.

Accession Number: 20240717-5059.

Comment Date: 5 p.m. ET 8/7/24.

Docket Numbers: ER24-2534-000.

Applicants: Gravel Pit Solar III, LLC.

Description: Baseline eTariff Filing: Application for Market-Based Rate Authority to be effective 9/11/2024.

Filed Date: 7/17/24.

Accession Number: 20240717-5078.

Comment Date: 5 p.m. ET 8/7/24.

Docket Numbers: ER24-2535-000.

Applicants: Gravel Pit Solar IV, LLC.

Description: Baseline eTariff Filing: Gravel Pit Solar IV, LLC to be effective 9/11/2024.

Filed Date: 7/17/24.

Accession Number: 20240717-5079.

Comment Date: 5 p.m. ET 8/7/24.

Docket Numbers: ER24-2536-000.

Applicants: Avista Corporation.

Description: 205(d) Rate Filing: Avista RS No. T1236, Fairchild AFB Interconnection and Operating Agreement to be effective 7/10/2024.

Filed Date: 7/17/24.

Accession Number: 20240717-5081.

Comment Date: 5 p.m. ET 8/7/24.

Docket Numbers: ER24-2537-000.

Applicants: Buckeye Plains Solar Project, LLC, Pickaway County Solar Project, LLC.

Description: 205(d) Rate Filing: Buckeye Plains Solar Project, LLC submits tariff filing per 35.13(a)(2)(iii: Revised Common Facilities Agreement to be effective 9/15/2024.

Filed Date: 7/17/24.

Accession Number: 20240717-5096.

Comment Date: 5 p.m. ET 8/7/24.

Docket Numbers: ER24-2538-000.

Applicants: Buckeye Plains II Solar Project, LLC.

Description: Tariff Amendment: Notice of Cancellation—Buckeye Plains II to be effective 9/15/2024.

Filed Date: 7/17/24.

Accession Number: 20240717-5097.

Comment Date: 5 p.m. ET 8/7/24.

Docket Numbers: ER24-2539-000.

Applicants: Pickaway County II Solar Project, LLC.

Description: Tariff Amendment: Notice of Cancellation—Pickaway County II to be effective 9/15/2024.

Filed Date: 7/17/24.

Accession Number: 20240717-5099.

Comment Date: 5 p.m. ET 8/7/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 17, 2024.
Debbie-Anne A. Reese,
Acting Secretary.

[FR Doc. 2024-16204 Filed 7-23-24; 8:45 am]

BILLING CODE 6717-01-P